FEDERAL COMMUNICATIONS COMMISSION

Performance Review Board

As required by the Civil Service Reform Act of 1978 (Pub. L. 95-454), Chairman William E. Kennard appointed the following executives to the Performance Review Board: Richard Lee, Renee Licht, David Solomon, Thomas Tycz.

Federal Communications Commission.
Magalie Roman Salas,
Secretary.

[FR Doc. 00-29364 Filed 11-15-00; 8:45 am]

BILLING CODE 6712-01-M